DEPARTMENT OF COMMERCE

National Oceanic and Atmospheric Administration

Proposed Information Collection; Comment Request; Alaska Region Bering Sea and Aleutian Islands (BSAI) Crab Economic Data Reports (EDR)

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 16, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to NMFS Alaska Region, Patsy A. Bearden, (907) 586-7008 or patsy.bearden@noaa.gov.

SUPPLEMENTARY INFORMATION:

I. Abstract

The Crab Rationalization (CR) Program is a limited-access system that allocates crab managed under the Fisheries Management Plan (FMP) among harvesters, processors, and coastal communities. The CR Program currently includes a comprehensive economic data collection program requiring participants to complete annual Economic Data Reports (EDRs). These EDRs are intended to aid the North Pacific Fisheries Management Council and NMFS in assessing the success of the CR Program and developing amendments to the FMP to mitigate any unintended consequences of the CR Program.

Pacific States Marine Fisheries Commission (PSMFC) is the Data Collection Agent for the CR Program. The CR Crab EDR program collects annually reported cost, revenue, ownership, and employment data from harvest and processing sector participants in the CR fisheries. This information is necessary to monitor and assess the economic effects of the CR program and support rigorous economic analysis to promote the goals and objectives of the Magnuson-Stevens Fishery Conservation and Management Act.

Participation in the CR Crab EDR program is mandatory under Federal fisheries regulations 50 CFR part 680.6 for all active vessel and processing sector participants in the CR Program fisheries.

II. Method of Collection

Information may be submitted online, by fax, and by mail.

III. Data

OMB Control Number: 0648-0518.

Form Number(s): None.

Type of Review: Regular submission (extension of a currently approved information collection).

Affected Public: Business or other for-profit organizations; not-for-profit organizations.

Estimated Number of Respondents: 101.

Estimated Time per Response: 10 hr for full Catcher Vessel Crab EDR; 2 hours for certification only Catcher Vessel Crab EDR; 10 hr for full Catcher/processor Crab EDR; 2 hours for certification only Catcher/processor Crab EDR; 10 hr for full Processor Crab EDR; 2 hours for certification only Processor Crab EDR; and 8 hours for Verification of Data.

Estimated Total Annual Burden Hours: 1,848.

Estimated Total Annual Cost to Public: $101,746.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 10, 2015.
Sarah Brabson,
NOAA PRA Clearance Officer.

[FR Doc. 2015-31501 Filed 12-14-15; 8:45 am]

BILLING CODE 3510-22-P